DEPARTMENT OF HEALTH AND HUMAN SERVICES

Health Resources and Services Administration

Statement of Organization, Functions and Delegations of Authority

This notice amends part R of the Statement of Organization, Functions and Delegations of Authority of the Department of Health and Human Services (HHS), Health Resources and Services Administration (HRSA) (60 FR 56605, as amended November 6, 1995; as last amended at 76 FR 45584-45585 dated July 29, 2011).

This notice reflects organizational changes to the Health Resources and Services Administration. Specifically, this notice updates the Office of Planning, Analysis and Evaluation (RA5) functional statement. The update to the functional statement will better align functional responsibility with improved management and administrative efficiencies and improved alignment of current liaison functions and policy processes within the Office of Planning, Analysis and Evaluation (RA5).

Chapter RA5—Office of Planning, Analysis and Evaluation

Section RA5-10, Organization

Delete in its entirety and replace with the following:

The Office of Policy, Analysis and Evaluation (RA5) is headed by the Director, who reports directly to the Administrator, Health Resources and Services Administration. The Office of Planning, Analysis and Evaluation (RA5) includes the following components:

(1) Office of the Director (RA5);

(2) Office of Policy Analysis (RA53); and

(3) Office of Research and Evaluation (RA56).

Section RA5-20, Functions

(1) Delete the functional statement for the Office of Planning, Analysis and Evaluation (RA5) and replace in its entirety.

Office of the Director (RA5)

(1) Provides Agency-wide leadership for policy development, data collection and management, major analytic activities, research, and evaluation; (2) develops HRSA-wide policies; (3) participates with HRSA organizations in developing strategic plans for their component; (4) coordinates the Agency's long-term strategic planning process; (5) conducts and/or guides analyses, research, and program evaluation; (6) develops annual performance plans; (7) analyzes budgetary data with regard to planning guidelines; (8) develops and produces performance reports required under the Government Performance and Accountability Report and OMB; (9) as requested, develops, implements, and coordinates policy processes for the Agency for key major cross-cutting policy issues; (10) facilitates policy development by maintaining analytic liaison between the Administrator, other OPDIVs, Office of the Secretary staff components, and other Departments on critical matters involving program policy undertaken in the Agency; (11) provides data analyses, graphic presentations, briefing materials, and analyses on short notice to support the immediate needs of the Administrator and Senior Leadership; (12) conducts special studies and analyses and/or provides analytic support and information to the Administrator and Senior Leadership needed to support the Agency's goals and directions; and (13) collaborates with the Office of Operations in the development of budgets, performance plans, and other administration reporting requirements.

Office of Policy Analysis (RA53)

(1) Serves as the principal Agency resource for policy analysis; (2) analyzes issues arising from legislation, budget proposals, regulatory actions, and other program or policy actions; (3) serves as focal point within HRSA for analysis of healthcare payment systems and financing issues; (4) collaborates with HHS Agencies to examine the impact of Medicare, Medicaid, and Children's Health Insurance Program (CHIP) on HRSA grantees and safety net providers; (5) provides Agency leadership guidance on policy development; (6) serves as a resource of information and institutional knowledge for the Agency; (7) coordinates the Agency's participation in Healthy People, and other Department and Federal initiatives; (8) coordinates the Agency's intergovernmental activities, including: providing the Administrator with a single point of contact on all activities related to important state and local government, stakeholder association, and interest group activities; coordinating Agency cross-Bureau cooperative agreements and activities with organizations such as the National Governors Association, National Conference of State Legislature, Association of State and Territorial Health Officials, National Association of Counties, and National Association of County and City Health Officials; interacting with various commissions such as the Delta Regional Authority, Appalachian Regional Commission, and on the Denali Commission; and serving as the primary liaison to Department intergovernmental staff; and (9) serves as the coordinator for General Accounting Office reports on HRSA programs and activities.

Office of Research and Evaluation (RA56)

(1) Serves as the principal source of leadership and advice on program information and research; (2) analyzes and coordinates the Agency's need for information and data for use in the management and direction of Agency programs; (3) manages an Agency-wide information and data group as well as an Agency-wide research group; (4) maintains an inventory of HRSA databases; (5) provides technical assistance to HRSA staff in database development, maintenance, analysis, and distribution; (6) promotes the availability of HRSA data through Web sites and other online applications; (7) conducts, oversees, and fosters high quality research across HRSA programmatic interests; (8) develops an annual research agenda for the Agency; (9) conducts, leads, and/or participates with HRSA staff in the development of research and demonstration projects; (10) coordinates HRSA participation in institutional review boards and the protection of human subjects; (11) conducts, guides, and/or participates in major program evaluation efforts and prepares reports on HRSA program efficiencies; and (12) manages HRSA activity related to the Paperwork Reduction Act, and other OMB policies.

Section RA5-30, Delegations of Authority

All delegations of authority and re-delegations of authority made to HRSA officials that were in effect immediately prior to this reorganization, and that are consistent with this reorganization, shall continue in effect pending further re-delegation.

This reorganization is effective upon date of signature.

Dated: August 19, 2011.
Mary K. Wakefield,
Administrator.

[FR Doc. 2011-22261 Filed 8-30-11; 8:45 am]

BILLING CODE 4165-15-P